DEPARTMENT OF ENERGY

Federal Energy Regulatory Commission

[Docket Nos. ER04-691-010, EL04-104-009, ER04-106-004]

Midwest Independent Transmission System Operator, Inc.; Notice of Filing

November 17, 2004.

Take notice that on November 15, 2004, the Midwest Independent Transmission System Operator, Inc. (Midwest ISO) submitted a compliance filing pursuant to the Commission's September 16, 2004 Order in Midwest Independent Transmission System Operator, Inc., 108 FERC ¶ 61,236 (2004).

The Midwest ISO states that it has electronically served a copy of the filing upon all Midwest ISO Members, Member representatives of Transmission Owners and Non-Transmission Owners, the Midwest ISO Advisory Committee participants, Policy Subcommittee participants, and all state commissions within the region. In addition, the Midwest ISO states that the filing has been posted on the Midwest ISO's Web site at http://www.midwestiso.org under the heading “Filings to FERC”. The Midwest ISO further states that it will provide hard copies upon request.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on November 29, 2004.

Linda Mitry,
Deputy Secretary.

[FR Doc. E4-3303 Filed 11-22-04; 8:45 am]

BILLING CODE 6717-01-P